FEDERAL COMMUNICATIONS COMMISSION

47 CFR Part 73

[DA 03-1708; MB Docket No. 03-120, RM-10591]

Radio Broadcasting Services; Chattanooga and Lake City, TN

AGENCY: Federal Communications Commission.

ACTION: Proposed rule.

SUMMARY: This document sets forth a proposal to amend the FM Table of Allotments, Section 73.202(b) of the Commission's rules, 47 CFR 73.202(b). The Commission requests comment on a petition filed by Ronald C. Meredith (“petitioner”) to allot Channel 244A to Lake City, Tennessee, as that community's first local aural transmission service. To accommodate this proposal, petitioner requests substitution of Channel 243C0 for Channel 243C at Chattanooga, Tennessee. WDOD of Chattanooga, Inc., the licensee of WDOD-FM operating on Channel 243C at Chattanooga, has stated, in response to an order to show cause, that it does not intend to seek authority to modify WDOD-FM's technical facilities to minimum Class C standards. Channel 243C0 can be allotted at Chattanooga, Tennessee, at the current coordinates for Channel 243C. If Channel 243C0 is substituted for Channel 243C at Chattanooga, Tennessee, Channel 244A can be allotted to Lake City, Tennessee, in compliance with the Commission's minimum distance separation requirements with a site restriction of 6.7 km (4.2 miles) west of Lake City. The coordinates for Channel 244A at Lake City are 36-12-08 North Latitude and 84-13-36 West Longitude.

DATES: Comments must be filed on or before July 11, 2003, and reply comments on or before July 28, 2003.

ADDRESSES: Federal Communications Commission, Washington, DC 20554. In addition to filing comments with the FCC, interested parties should serve counsel for the petitioner as follows: Vincent Pepper, Womble, Carlyle, Sandridge & Rice, PLLC, 1401 Eye Street, NW., Washington 20005; and Coe W. Ramsey, Brooks Pierce McLendon, Post Office Box 1800, Raleigh, NC 27602.

FOR FURTHER INFORMATION CONTACT: Deborah A. Dupont, Media Bureau (202) 418-7072.

SUPPLEMENTARY INFORMATION: This is a synopsis of the Commission's Notice of Proposed Rule Making, MB Docket No. 03-120; adopted May 16, 2003 and released May 20, 2003. The full text of this Commission decision is available for inspection and copying during normal business hours in the FCC Reference Information Center (Room CY-A257), 445 12th Street, SW., Washington, DC. The complete text of this decision may also be purchased from the Commission's copy contractor, Qualex International, Portals II, 445 12th Street, SW., Room CY-B402, Washington, DC 20554, telephone (202) 863-2893.

The Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334 and 336.

§ 73.202 [Amended]

2. Section 73.202(b), the Table of FM Allotments under Tennessee, is amended by removing Channel 243C and by adding Channel 243C0 at Chattanooga, and by adding Lake City, Channel 244A.

Federal Communications Commission.
John A. Karousos,
Assistant Chief, Audio Division, Media Bureau.

[FR Doc. 03-14090 Filed 6-4-03; 8:45 am]

BILLING CODE 6712-01-P